DEPARTMENT OF TRANSPORTATION

National Highway Traffic Safety Administration

[Docket No. NHTSA-2003-14395]

NHTSA's Activities Under the United Nations Economic Commission for Europe 1998 Global Agreement

AGENCY: National Highway Traffic Safety Administration (NHTSA), DOT.

ACTION: Notice of activities under the 1998 Global Agreement and request for comments.

SUMMARY: NHTSA is publishing this notice to inform the public of the schedule of meetings of the World Forum for Harmonization of Vehicle Regulations (WP.29) and its working parties of experts for the period of October 2004 through December 2005. In addition, this notice informs the public about the status of activities under the Program of Work of the 1998 Global Agreement and requests comments on various aspects of these activities, including a proposal from the United States for the development of a global technical regulation (GTR) on head restraints. Publication of this information is in accordance with NHTSA's Statement of Policy regarding Agency Policy Goals and Public Participation in the Implementation of the 1998 Global Agreement on Global Technical Regulations.

DATES: Written comments may be submitted to this agency and must be received by November 8, 2004.

ADDRESSES: You may submit your comments in writing to: Docket Management, Room PL-401, 400 Seventh St., SW., Washington, DC, 20590. Alternatively, you may submit your comments electronically by logging onto the Dockets Management System Web site at http://dms.dot.gov. Click on “Help & Information” or “Help/Info” to view instructions for filing your comments electronically. Regardless of how you submit your comments, you should mention the docket number of this document. Note that all comments received will be posted without change to http://dms.dot.gov, including any personal information provided. Please see the Privacy Act heading under Request for Comments.

FOR FURTHER INFORMATION CONTACT: Ms. Julie Abraham, Director, Office of International Policy, Fuel Economy, and Consumer Programs, National Highway Traffic Safety Administration, 400 Seventh Street, SW., Washington, DC 20590; phone number (202) 366-2114, fax number (202) 493-2280.

SUPPLEMENTARY INFORMATION:

Table of Contents

I. Introduction

I. List of Tentative Meetings of WP.29 and Its Working Parties of Experts

III. Status of Activities Under the Program of Work of the 1998 Global Agreement

a. Formal proposals for the development of GTRs submitted by contracting parties based on the Program of Work

b. U.S. draft proposal for the development of a GTR on head restraints

c. Recommendations by working parties of experts for the establishment of GTRs under the 1998 Global Agreement

IV. Request for Comments

V. Privacy Act

VI. Appendix

I. Introduction

On August 23, 2000, NHTSA published in the Federal Register (65 FR 51236) a statement of policy regarding the agency's policy goals and public participation in the implementation of the 1998 Global Agreement, indicating that each calendar year the agency would provide a list of scheduled meetings of WP.29 and the working parties of experts, as well as meetings of the Executive Committee of the 1998 Global Agreement. Further, in that policy statement, the agency stated that it would keep the public informed about a program of work under the Agreement (i.e., agreed subjects for which GTRs should be developed) as well as a list of candidate GTRs that have been formally proposed by a contracting party and referred to a working party of experts and those draft GTRs that have been developed and referred by a working party of experts to the Executive Committee for establishment under the Agreement.

Through a series of Federal Register notices published between July 2000 and February 2003 ((65 FR 44565), (66 FR 4893), (68 FR 5333)), the agency notified the public about status of activities under the 1998 Global Agreement and sought comments on various issues and proposals. In the most recent notice (68 FR 5333), the agency discussed the establishment of a Program of Work for the 1998 Global Agreement, which was formally adopted by WP.29 at its March 2002 Session, and announced and made available formal proposals for GTRs submitted by contracting parties. The notice also requested comments on the U.S. draft proposal for the development of a GTR on door locks and door retention components.

II. List of Tentative Meetings of WP.29 and Its Working Parties of Experts

The following list contains meetings tentatively scheduled for the period of October 2004 through December 2005. The meeting dates are subject to confirmation by the Inland Transport Committee of the United Nations Economic Commission for Europe ¹ during its February 2005 session. However, the agency does not anticipate any changes to the schedule. In addition, working parties of experts may schedule, if necessary, informal meetings in addition to their regularly scheduled ones in order to address specific GTRs under consideration.

¹ The Inland Transport Committee provides a forum for its member Governments for (i) cooperation and consultation based on the exchange of information and experiences, (ii) the analysis of transport trends and economics and transport policy trends, and (iii) coordinated action designed to achieve an efficient, coherent, balanced and flexible transport system in the ECE region which is based on principles of market economy, pursues the objectives of safety, environmental protection and energy efficiency in transport and takes into account transport developments and policy of member Governments; WP.29 Reports to this Committee.

Schedule of Meetings of WP.29 and Its Working Parties of Experts

2004

October

4-8: Working Party on Lighting and Light-Signaling (GRE) (53rd session).

12-15: Working Party on General Safety Provisions (GRSG) (87th session).

November

15: Administrative Committee for the Coordination of Work (WP.29/AC.2) (86th session).

16-19: World Forum for Harmonization of Vehicle Regulations (WP.29) (134th session) and Administrative Committee of the 1958 Agreement (AC.1) (28th session) and Executive Committee of the 1998 Global Agreement (AC.3)(12th session).

December

7-10: Working Party on Passive Safety (GRSP) (36th session).

2005

January

11-4: Working Party on Pollution and Energy (GRPE) (49th session).

31-Feb 4: Working Party on Brakes and Running Gear (GRRF) (57th session).

March

7: Administrative Committee for the Coordination of Work (WP.29/AC.2) (87th session).

8-11: World Forum for Harmonization of Vehicle Regulations (WP.29) (135th session) and Administrative Committee of the 1958 Agreement (AC.1) (29th session) and Executive Committee of the 1998 Global Agreement (AC.3) (13th session).

April

5-8: Working Party on Lighting and Light Signaling (GRE) (54th session).

18-22: Working Party on General Safety Provisions (GRSG) (88th session).

May

23-27: Working Party on Passive Safety (GRSP) (37th session).

31-June 3: Working Party on Pollution and Energy (GRPE) (50th session).

June

20: Administrative Committee for the Coordination of Work (WP.29/AC.2) (88th session).

21-24: World Forum for Harmonization of Vehicle Regulations (WP.29) (136th session) and Administrative Committee of the 1958 Agreement (AC.1) (30th session) and Executive Committee of the 1998 Global Agreement (AC.3) (14th session).

September

20-23: Working Party on Brakes and Running Gear (GRRF) (58th session).

October

3-7: Working Party on Lighting and Light Signaling (GRE) (58th session).

11-14: Working Party on General Safety Provisions (GRSG) (89th session).

November

14: Administrative Committee for the Coordination of Work (WP.2/AC.2) (89th session).

15-18: World Forum for Harmonization of Vehicle Regulations (WP.29) (137th session) and Administrative Committee of the 1958 Agreement (AC.1) (31st session) and Executive Committee of the 1998 Global Agreement (AC.3) (15th session).

December

6-9: Working Party on Passive Safety (GRSP) (38th session).

III. Status of Activities Under the Program of Work of the 1998 Global Agreement

In March 2001, NHTSA submitted to WP.29 and the Executive Committee of the 1998 Global Agreement its final recommendations for the first motor vehicle safety GTRs to be considered for establishment under that Agreement. The Administrative Committee for the Coordination of Work of WP.29 (AC.2) reviewed the recommendations made by various contracting parties, including the United States, Canada, the European Union, Japan, and Russia, as well as those made by other interested parties and reached agreement on a Program of Work, taking into account the workload of the working parties of experts under WP.29. AC.2 then submitted the Program of Work to the Executive Committee of the 1998 Global Agreement (AC.3). The AC.3 approved the Program of Work and requested that contracting parties volunteer to sponsor each listed regulation by submitting a formal proposal as required by Article 6 of the 1998 Global Agreement. WP.29 formally adopted the Program of Work at its session in March 2002. Since that session, several contracting parties stepped forward as sponsors for the individual work items and have formalized their sponsorship by submitting proposals for the development of GTRs on these items. While progress has been made in several areas, the Program of Work has remained for the most part unchanged since its approval in 2002, with minor exceptions. The status of hydrogen fuel cell vehicles as well as tire performance has been upgraded from an area for an exchange of information to an area for active discussion regarding the feasibility of establishing a GTR. In addition, there has also been discussion regarding whether to add Event Data Recorders, an agreed item of work under the 1958 Agreement, to the Program of Work for the 1998 Global Agreement.

The following table updates the subjects and lists the sponsoring contracting party. In addition to the list below, the contracting parties will continue to exchange information in the following areas: field of vision (GRSG); side-impact dummy and compatibility (GRSP); worldwide light duty vehicle test procedures (GRPE); and intelligent vehicle systems (WP.29).

Program of Work of the 1998 Global Agreement
Working party of experts | Subject | Sponsoring contracting party
GRE | Installation of Lighting and Light-Signalling Devices | Canada.
GRRF | Motorcycle Brakes | Canada.
| Passenger Vehicle Brakes | U.K. and Japan.
| Tire Performance | France.
GRSG | Safety Glazing | Germany.
| Controls and Displays | Canada.
| Vehicle Classification, Masses and Dimensions | Japan.
GRSP | Pedestrian Safety | European Union.
| Lower Anchorages and Tethers for Child Safety Seats | TBD.
| Door Locks and Door Retention Components | U.S.A.
| Head Restraints | U.S.A.
GRPE | Worldwide Heavy-Duty Certification Procedure | European Union.
| Worldwide Motorcycle Emission Test Cycle | Germany.
| Heavy-Duty On-Board Diagnostics | U.S.A.
| Off-Cycle Emissions | U.S.A.
| Non-Road Mobile Machinery | European Union.
| Hydrogen Fuel Cell Vehicles | Germany.

a. Formal Proposals for the Development of GTRs Submitted by Contracting Parties Based on Program of Work

As of the publication of the February 3, 2003 Federal Register notice (68 FR 14395), and pursuant to Article 6 of the 1998 Global Agreement, which sets forth the process and conditions under which a contracting party may make proposals for the establishment of GTRs, the following proposals have been made by contracting parties and referred to the proper working party of experts. These proposals and supporting documentations can be found in the docket for this notice. They can also be found on the UN/ECE Web site http://www.unece.org/trans/main/wp29/wp29wgs/wp29gen/wp29glob.html or under the respective working party of expert link (http://www.unece.org/trans/main/welcwp29.htm).

• Safety glazing materials for motor vehicles and motor vehicle equipment (Sponsored by Germany), GTR to be prepared by GRSG. (UN/ECE document TRANS/WP.29/AC.3/9).

• Heavy-duty vehicle exhaust-emissions type/approval/certification procedure (Sponsored by European Union), GTR to be prepared by GRPE. (UN/ECE document TRANS/WP.29/AC.3/8).

• Protection of pedestrians and other vulnerable road users in collision with vehicles (Sponsored by European Union), GTR to be prepared by GRSP. (UN/ECE document TRANS/WP.29/AC.3/7).

• World-wide motorcycle emissions tests (Sponsored by Germany), GTR to be prepared by GRPE. (UN/ECE document TRANS/WP.29/AC.3/6).

• Installation of lighting and light signaling devices (Sponsored by Canada), GTR to be prepared by GRE. (UN/ECE document TRANS/WP.29/AC.3/4).

• Motorcycle brake systems (Sponsored by Canada); GTR to be prepared by GRRF. (UN/ECE document TRANS/WP.29/AC.3/3).

b. U.S. Draft Proposal for the Development of a GTR on Head Restraints

During the upcoming meeting of WP.29 and the Executive Committee of the 1998 Global Agreement in November 2004, NHTSA will formalize its sponsorship of the regulation on Head Restraints as identified in the Program of Work of the 1998 Global Agreement. The draft proposal, as set forth in the appendix, describes the objective of the global technical regulation and identifies in general terms issues to be considered during the development of the regulation.

c. Recommendations by Working Parties of Experts for the Establishment of GTRs Under the 1998 Global Agreement

In the February 3, 2003 notice, NHTSA sought comments on a proposal that formalizes the U.S. sponsorship of a GTR on door locks and door components. In response to the agency's request for comment on the proposal, NHTSA received comments from the Insurance Institute for Highway Safety (IIHS) and Advocates for Highway and Auto Safety (Advocates). Both organizations supported the pursuit of work in this area, which is intended to lead to an upgrade to the current U.S. standard. Specifically, IIHS supported efforts to test door latch systems as they are mounted in the vehicle and requested that the requirements apply to all doors in light passenger vehicles. Advocates supported a regulation that ensures that side and rear doors stay closed during a severe crash and that some doors can be opened after a crash, without tools, to allow the egress of passengers. The proposal was formally presented by the U.S. at the March 2003 WP.29 meeting, and adopted by the Executive Committee and referred to the Working Party of Experts (GRSP) at the June 2003 Session of WP.29.

In September 2003, the GRSP formed an informal working group to develop a GTR. The informal group considered the comments from the IIHS and Advocates as well as those from other contracting parties during the GTR development process. At its May 2003 session, GRSP concluded its work and agreed to recommend a draft GTR on door locks and door retention components to the Executive Committee for establishment under the 1998 Global Agreement. This GTR as well as supporting documentation developed by GRSP, including a final report, can be found in the docket for this notice. Among other things, the report discusses the Working Party's consideration of issues raised in the comments submitted in response to our February 2003 notice.

The U.S. intends to vote at the November 2004 WP.29 session to establish this draft GTR as the first GTR under the 1998 Global Agreement. Closely following this November vote, the U.S. will publish a notice of proposed rulemaking (NPRM) based on this GTR.² If public comments on the NPRM lead the agency to adopt a final rule that differs in any significant way from the GTR, the U.S. will consider submitting a proposal to make conforming amendments to the GTR.

² The establishment of a GTR under the Agreement obligates those contracting parties voting for the GTR to initiate their domestic process for adopting the GTR as a national or regional standard, but leaves the final decision on adoption to the discretion of each party. (See Article 7). The issuance of an NPRM is one way of fulfilling that obligation.

In addition to the GTR on door lock and door retention components, progress has been made on two other GTRs. The GRE is discussing a Canadian proposal for a draft GTR on Lighting and Light-Signaling Devices for Road Vehicles. The GRSG is discussing a German proposal for a draft GTR on Safety Glazing. Both of these draft GTRs can be found in the docket.

IV. Request for Comments

The agency invites public comments on the formal proposals for the development of GTRs submitted by contracting parties based on the Program of Work. In particular, the agency seeks public comments on the U.S. proposal for the development of a GTR in the area of head of restraints. The proposal is set forth in the appendix of this notice. The agency also welcomes comments on the GRSP recommended GTR on door locks and door lock retention components, which is expected to be established through a vote of the 1998 Global Agreement Executive Committee at the upcoming November 2004 WP.29 meeting. However, given the fact that the agency plans to issue an NPRM based on this GTR in the near future, the agency will consider detailed comments as part of the regular rulemaking process. In the event that commenters provide new information and data that lead the agency to adopt a final rule that significantly differs from the GTR, the agency would consider proposing to amend the GTR.

V. Privacy Act

Please note that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

VI. Appendix—Proposal for the Development of a GTR on Head Restraints, To Be Submitted to the Executive Committee of the 1998 Global Agreement (AC.3), November 2004

A. Objective of the Proposal

In the United States, between 1988 and 1996, 805,581 whiplash injuries (non-contact Abbreviated Injury Scale (AIS 1) (neck) occurred annually in all crashes of passenger cars and LTVs (light trucks, multipurpose passenger vehicles and vans). 272,464 of these whiplash injuries occurred as a result of rear impacts. For rear impact crashes, the average cost of whiplash injuries in 2002 dollars is $9,994 (which includes $6,843 in economic costs and $3,151 in quality of life impacts, but not property damage), resulting in a total annual cost of approximately $2.7 billion. Although the front outboard seat occupants sustain most of these injuries, whiplash is an issue for rear seat passengers as well. During the same time frame, an estimated 5,440 whiplash injuries were reported annually for occupants of rear outboard seating positions.

The objective of this proposal is to develop an improved and harmonized head restraint global technical regulation (GTR) under the 1998 Global Agreement. The work on the GTR will provide an opportunity to consider, most, if not all, international safety concerns as well as available technological developments.

The United States is currently in the process of upgrading its head restraint standard to provide more stringent requirements. In 1982, the U.S. assessed the performance of head restraints installed pursuant to the current standard and reported that integral head restraints are 17 percent effective at reducing neck injuries in rear impacts and adjustable head restraints are only 10 percent effective. The ECE regulations on head restraints are considerably more stringent than the current U.S. regulation, and were used as a baseline in developing the new U.S. standard.

In light of the U.S. regulatory upgrade effort, we believe that this would be an excellent opportunity for the international community to develop and establish a GTR in this area. Everyone could benefit from harmonization and new technology based improvements of the head restraint regulation. The benefits to the governments would be the improved safety of the head restraints, leveraging of resources, and the harmonization of requirements. Manufacturers would benefit from reduction of the cost of development, testing, and fabrication process of new models. Finally, the consumer would benefit by having a choice of vehicles built to higher, globally recognized standards, providing a better level of safety at a lower price.

B. Description of the Proposed Regulation

The scope of the GTR will specify requirements for head restraints to reduce the frequency and severity of neck injury in rear-end and other collisions. The proposed GTR will combine elements from ECE 17, ECE 25, and newly upgraded U.S. Federal Motor Vehicle Safety Standard (FMVSS) 202. Two of the newly proposed FMVSS 202 requirements are significant and not included in any other published regulation. The first proposes to require that the space between the head restraint and the occupant's head (backset) be limited. The second proposes a new dynamic test, as an optional means of compliance. The U.S. will prepare a table to facilitate comparison of the present standards and submit it as a formal document to the GRSP. The results of additional research and testing conducted by any contracting parties since the existing regulations were promulgated will also be factored into the requirements of the draft GTR and may result in the proposal of new requirements.

Elements of the GTR that cannot be resolved by the Working Party will be identified and dealt with in accordance with protocol established by AC.3 and WP.29. The proposed GTR will be drafted in the format adopted by WP.29 (TRANS/WP.29/882).

C. Existing Regulations and Directives

The following regulations and standards will be taken into account during development of the new GTR regarding head restraints.

• UN/ECE Regulation 17—Uniform Provisions Concerning the Approval of Vehicles With Regard to the Seats, Their Anchorages, and any Head Restraints.

• UN/ECE Regulation 25—Uniform Provisions Concerning the Approval of Head Restraints (Head Rests), Whether or not Incorporated in Vehicle Seats.

• EU Directive 74/408, Concerning Interior Fittings of Motor Vehicles.

• EU Directive 96/037, Adapting to Technical Progress Council Directive 74/408/EEC Relating to the Interior Fittings of Motor Vehicles (strength of seats and of their anchorages).

• EU Directive 78/932/EEC, Concerning Head Restraints of Seats of Motor Vehicles.

• U.S. Code of Federal Regulations (CFR) Title 49: Transportation; Part 571.202: Head Restraints.

• Australian Design Rule 3/00, Seats and Seat Anchorages.

• Australian Design Rule 22/00, Head Restraints.

• Japan Safety Regulation for Road Vehicles Article 22—Seat.

• Japan Safety Regulation for Road Vehicles Article 22-4—Head Restraints, etc.

• Canada Motor Vehicle Safety Regulation No. 202—Head Restraints.

• International Voluntary Standards—SAE J211/1 revised March 1995—Instrumentation for Impact Test—Part 1—Electronic.

Issued on October 5, 2004.
Julie Abraham,
Director, Office of International Policy, Fuel Economy and Consumer Programs.

[FR Doc. 04-22701 Filed 10-5-04; 1:25 pm]

BILLING CODE 4910-59-P